DEPARTMENT OF THE INTERIOR

Fish and Wildlife Service

DEPARTMENT OF COMMERCE

National Oceanic and Atmospheric Administration

RIN 0648-XL01

Notice of Intent to Conduct Public Scoping and to Prepare an Environmental Impact Statement Related to the Environmental and Social Effects of Implementing the Idaho Forestry Program

AGENCY: Fish and Wildlife Service (FWS), Interior; National Marine Fisheries Service (NMFS), National Oceanic and Atmospheric Administration (NOAA), Commerce.

ACTION: Notice; scoping meetings.

SUMMARY: The FWS and NMFS (collectively, the Services) intend to conduct public scoping under the National Environmental Policy Act (NEPA) to gather information to prepare an Environmental Impact Statement (EIS), and to respond to a request from the State of Idaho (State) to enter into a Cooperative Agreement (Agreement) under Section 6 of the Endangered Species Act (ESA) with the Services. Under the Agreement, the State would implement the Idaho Forestry Program with measures that would provide conservation benefits for listed fish species in the Salmon River Basin and Clearwater River Basin, and the Services would authorize incidental take of listed species caused by forest management activities to the extent that the effects of these activities on listed species are compliant with the requirements of Section 7 of the ESA.

DATES: Written comments should be received on or before April 3, 2009. See the SUPPLEMENTARY INFORMATION section for the dates and locations of the scoping meetings.

ADDRESSES: All comments concerning the preparation of the EIS and the NEPA process should be addressed to: Jeri Wood, FWS, 1387 S. Vinnell Way, Suite 368, Boise, ID 83709, facsimile (208) 378-5262, or Ken Troyer, NMFS, 10095 W. Emerald Street, Boise, ID 83704, facsimile (208) 378-5699. Comments may be submitted by e-mail to the following address: IdahoForestry@noaa.gov. In the subject line of the e-mail, include the document identifier: Idaho Forestry Program.

FOR FURTHER INFORMATION CONTACT: Jeri Wood, FWS, telephone (208) 378-5289; or Ken Troyer, NMFS, telephone (208) 378-5692.

SUPPLEMENTARY INFORMATION:

Dates and Addresses of Scoping Meetings

The dates and locations for the public scoping workshops are:

1. February 23, 2009, 7 - 9 p.m., Best Western, 1010 S Hwy 95, Riggins, ID 83549.

2. February 24, 2009, 7 - 9 p.m., Nez Perce National Forest, Supervisor's Office, 104 Airport Road, Grangeville, ID 83530.

3. February 25, 2009, 7 - 9 p.m., Clearwater National Forest, Supervisor's Office, 12730 Highway 12, Orofino, ID 83544.

4. February 26, 2009, 7 - 9 p.m., Idaho Fish and Game, 3316 16th St., Lewiston, ID 83501.

5. March 3, 2009, 7 - 9 p.m., Forest Service's Public Lands Center (Hwy 93 S), 1206 S. Challis St., Salmon, ID 83467.

Statutory Authority

Section 9 of the ESA (16 U.S.C. 1538) and implementing regulations prohibit the taking of animal species listed as endangered or threatened. The term “take” is defined under the ESA (16 U.S.C. 1532(19)) as harass, harm, pursue, hunt, shoot, wound, kill, trap, capture, or collect, or to attempt to engage in any such conduct. “Harm” is further defined by FWS regulation to include significant habitat modification or degradation where it actually kills or injures wildlife by significantly impairing essential behavioral patterns, including breeding, feeding, and sheltering (50 CFR 17.3). NMFS' definition of “harm” includes significant habitat modification or degradation where it actually kills or injures fish or wildlife by significantly impairing essential behavioral patterns, including breeding, feeding, spawning, migrating, rearing, and sheltering (50 CFR 222.102). Although Section 9 prohibits the taking of listed species, the ESA provides opportunities for authorized take if specified conditions are met.

Background

The State of Idaho is seeking to enter into an Agreement with the Services as part of a settlement agreement resulting from the Snake River Basin Adjudication (SRBA). The Snake River Water Rights Act of 2004 directs the heads of Federal agencies to execute and perform all actions necessary to carry out the terms of the SRBA settlement agreement, which are set forth in a document entitled “Mediator's Term Sheet.” The Term Sheet includes a provision for the negotiation of a Cooperative Agreement under Section 6 of the ESA to address forest management activities on State and private lands in the Salmon and Clearwater River basins that may affect federally listed fish species. The Term Sheet identifies specific forest management prescriptions for inclusion in the Cooperative Agreement and directs that the Agreement “not vary materially” from those prescriptions. The Term Sheet prescriptions thus form the basis for the State's proposed forest management program. However, the Services must determine that the State's proposed program is consistent with the standards and requirements contained in the ESA prior to entering in the Agreement. If the Services determine that the State's proposed program does not meet the requirements of the ESA, then the Services either will not sign the Agreement or will work with the State to modify the proposed program so that it does meet the standards of the ESA. The Term Sheet and the State's Program document can be viewed at http://www.idl.idaho.gov/eis/eis_index.html.

The Services are considering entering into an Agreement with the State of Idaho for the purpose of implementing a conservation program for salmon, steelhead, and bull trout as part of the Idaho Forestry Program. Under the proposed Agreement, the State of Idaho is seeking incidental take coverage for five listed fish species: (1) the Snake River sockeye salmon (Oncorhynchus nerka); (2) Snake River spring/summer Chinook salmon (O. tshawytscha), (3) Snake River fall Chinook salmon (O. tshawytscha), (4) Snake River steelhead (O. mykiss), and (5) the bull trout (Salvelinus confluentus). The Snake River sockeye salmon is currently listed as endangered under the ESA, while the other four fish species are listed as threatened under the ESA.

The Agreement would apply to State and private forest lands in the Salmon River and Clearwater River basins. The need for this action is: (1) to fulfill the Services' duties under the Snake River Water Rights Act of 2004; (2) to provide conservation benefits for listed species pursuant to Section 6(c)(1) of the ESA in addition to those provided under existing laws and regulations; (3) to provide for a stable, profitable, long-term program for the management of forest resources on enrolled State and private lands in the Salmon River and Clearwater River basins of Idaho that is consistent with the conservation of listed fish species under Section 6 of the ESA; (4) to actively manage the Idaho Forestry Program to assist in the conservation of listed fish species and the protection of their habitat; and (5) to provide a mechanism for State and private landowners implementing Idaho Forestry Program measures to receive authorization for incidental take of listed fish species resulting from forest management activities.

The Idaho Forestry Program includes the following forest management activities: timber harvest, stand improvement, prescribed fire, site preparation and tree planting, road construction, road reconstruction, road maintenance, and road abandonment. To minimize the impacts of these activities on listed fish species and their habitat, the Idaho Forestry Program also includes riparian- and road-related conservation measures. The riparian measures would regulate timber harvest and road-building adjacent to streams. The road measures would regulate road maintenance, road upgrades, road construction, and other aspects of road management. Key conservation measures would include Riparian Protection Zones adjacent to fish-bearing streams and the elimination of major sources of sediment delivery to streams from the existing forest road system on enrolled lands.

The term of the proposed Agreement for the Idaho Forestry Program is 30 years (as specified in the Term Sheet) and would cover forest management activities on up to 1.5 million acres of land, located mostly in the Clearwater River Basin but also scattered throughout the Salmon River Basin. Throughout the 30-year period, the Services must annually reconfirm that the Idaho Forestry Program is an adequate and active program for the conservation of listed species.

The Term Sheet expressly directs the Services to comply with the procedural requirements of NEPA in conjunction with the proposed Agreement. NEPA (42 U.S.C. 4321 et seq.) requires that Federal agencies conduct an environmental analysis of their proposed actions to determine if the actions may significantly affect the human environment. Under NEPA, a full range of reasonable alternatives to a proposed action is developed and considered in the Services' environmental review. For this particular proposed action, the Services' ultimate discretion to adopt alternatives analyzed in the EIS is limited by the Snake River Water Rights Act of 2004 and associated Term Sheet, which sets forth specific forest management prescriptions to the extent they are consistent with the ESA. The Services will therefore enter into the Agreement, approving the specific prescriptions of the Idaho Forestry Program, if they find the Program to be consistent with the ESA. The Services will, however, also examine a full range of reasonable alternatives to this specific program because (1) there are elements of the Term Sheet that allow some flexibility in the composition of the forestry program, (2) examining other alternatives can help further reveal potential effects of the proposed program, and (3) if the Services find the Idaho Forestry Program to be inconsistent with the ESA, alternatives or components of alternatives may be used to modify the proposed program, with agreement from the State.

The EIS will identify potentially significant direct, indirect, and cumulative impacts on land use, air quality, water quality, water resources, socioeconomics, and other environmental issues that could occur with implementation of the proposed action and alternatives.

The Services have identified the following preliminary alternatives for public evaluation during the scoping period:

Alternative 1: No Action - Under the No-action Alternative, the Services would not enter a Cooperative Agreement with the State of Idaho; the State of Idaho would not implement the Idaho Forestry Program; the Services would not authorize incidental take of listed species; and State and private forest land managers would follow the existing Idaho Forest Practices Act.

Alternative 2: Proposed Action - Under the Proposed Action Alternative, the Services would conduct an ESA Section 7 consultation to determine whether entering into a Cooperative Agreement with the State of Idaho would likely jeopardize the continued existence of any listed species, and, if appropriate, the Services would authorize the incidental take of salmon, steelhead, and bull trout for a period of 30 years; the Services would enter into the Cooperative Agreement with the State of Idaho, with annual reviews of whether or not the Idaho Forestry Program is an adequate and active program for the conservation of listed species; and the State of Idaho would implement the Idaho Forestry Program.

The Services may also consider alternatives that provide for greater restrictions on forest management activities than the proposed Idaho Forestry Program and alternatives that provide fewer restrictions on forest management activities than the Idaho Forestry Program. Additional project alternatives may be developed based on input received during the public scoping process.

Request for Comments

The primary purpose of the scoping process is for the public to assist the Services in developing the EIS by identifying important issues and alternatives related to the proposed action. The scoping workshops will allocate time for presentations by the Services and the State of Idaho, followed by informal questions, comments, and discussions.

Written and verbal comments from interested parties are welcome to ensure that the full range of issues related to the environmental and social effects of implementing the Idaho Forestry Program under the Agreement are identified. All comments and materials received, including names and addresses, will become part of the administrative record and may be released to the public.

Comments and materials received will be available for public inspection, by appointment, during normal business hours at the offices listed in the ADDRESSES section of this notice.

The Services request that public comments be specific. In particular, we request information regarding: direct, indirect, and cumulative impacts that implementation of the proposed Idaho Forestry Program or other alternatives could have on listed species and their habitats; possible alternatives; potential adaptive management and/or monitoring provisions; funding issues; existing environmental conditions in the project area; other plans or projects that might be relevant to this proposed project; acreage that should be covered; specific species that should or should not be covered; specific landforms that should or should not be included in the analyses; and minimization and mitigation measures. The Services estimate that the draft EIS will be available for public review in the winter of 2010.

The environmental review of this project will be conducted in accordance with the requirements of the NEPA of 1969, as amended (42 U.S.C. 4321 et seq.), the Council on Environmental Quality Regulations (40 CFR parts 1500 1508), other applicable Federal laws and regulations, and applicable policies and procedures of the Services. This notice is being furnished in accordance with 40 CFR 1501.7 of the NEPA regulations to obtain suggestions and information from other agencies and the public on the scope of issues and alternatives to be addressed in the EIS.

Reasonable Accommodation

Persons needing reasonable accommodation to attend and participate in one of the public meetings should contact Ken Troyer (see FOR FURTHER INFORMATION CONTACT). To allow sufficient time to process requests, please call no later than five days prior to the meeting you plan to attend. Information regarding the applicant's proposed action is available in alternative formats upon request.

Dated: February 9, 2009.
David Wesley,
Deputy Regional Director, Fish and Wildlife Service, Region 1, Portland, Oregon

Dated: February 10, 2009.
Angela Somma,
Chief, Endangered Species Division, Office of Protected Resources, National Marine Fisheries Service.

[FR Doc. E9-3294 Filed 2-13-09; 8:45 am]

BILLING CODES 4310-55-S, 3510-22-S